DEPARTMENT OF AGRICULTURE

Animal and Plant Health Inspection Service

[Docket No. 02-088-5]

Notice of Request for Emergency Approval of an Information Collection

Correction

In notice document 05-5065 beginning on page 13159 in the issue of Friday, March 18, 2005, make the following correction:

On page 13159, in the second column, in the DATES section, in the second and third lines, “March 25, 2005” should read “March 28, 2005.”

[FR Doc. C5-5065 Filed 3-23-05; 8:45 am]

BILLING CODE 1505-01-D